DEPARTMENT OF AGRICULTURE

Animal and Plant Health Inspection Service

9 CFR Part 91

[Docket No. APHIS-2012-0049]

RIN 0579-AE00

Exportation of Live Animals, Hatching Eggs, and Animal Germplasm From the United States

AGENCY: Animal and Plant Health Inspection Service, USDA.

ACTION: Final rule; technical amendment.

SUMMARY: In a final rule published in the Federal Register on January 20, 2016, and effective on February 19, 2016, we revised our regulations regarding the exportation of livestock from the United States. Among other revisions, we expanded the scope of the regulations so that, if the Animal and Plant Health Inspection Service (APHIS) knows that an importing country requires an export health certificate endorsed by the competent veterinary authority of the United States for any animal other than livestock or for any animal semen, animal embryos, hatching eggs, other embryonated eggs, or gametes intended for export to that country, the animal or other commodity must have an endorsed export health certificate in order to be eligible for export from the United States. While, in the preamble for that rule, we indicated that APHIS is the competent veterinary authority of the United States, and must endorse the export health certificate in such instances, this was not reflected in the regulations themselves. This document corrects that error.

DATES: Effective October 26, 2016.

FOR FURTHER INFORMATION CONTACT: Dr. Jack Taniewski, Director for Animal Export, National Import Export Services, VS, APHIS, 4700 River Road Unit 39, Riverdale, MD 20737-1231; (301) 851-3300.

SUPPLEMENTARY INFORMATION: In a final rule ¹ that was published in the Federal Register on January 20, 2016 (81 FR 2967, Docket No. APHIS-2012-0049), and effective on February 19, 2016, we amended the regulations concerning the exportation of livestock from the United States, which are found in 9 CFR part 91 (referred to below as “the regulations”). Among other revisions, we expanded the scope of the regulations so that, if the Animal and Plant Health Inspection Service (APHIS) knows that an importing country requires an export health certificate endorsed by the competent veterinary authority of the United States for any animal other than livestock or for any animal semen, animal embryos, hatching eggs, other embryonated eggs, or gametes intended for export to that country, the animal or other commodity must have an endorsed export health certificate in order to be eligible for export from the United States.

¹ To view the rule, supporting documents, and comments we received, go to http://www.regulations.gov/#!docketDetail;D=APHIS-2012-0049.

In the preamble of that rule, we stated that this requirement was necessary because several foreign countries consider any animal, germplasm, or hatching egg offered for importation to their country without an export health certificate issued by the competent veterinary authority of the exporting country to present a risk of disseminating pests or diseases of livestock within their country, and accordingly prohibit such importation. We also stated that, if we are aware that the importing country has such requirements, we consider it necessary to require export health certificates for the animals, germplasm, or hatching eggs in order to provide assurances to the importing country that, in our, that is, APHIS', determination as the competent veterinary authority of the United States, we do not consider the animals, germplasm, or hatching eggs to present a risk of disseminating pests or diseases of livestock. Thus, we implied that, in such instances, the export health certificate must be issued and endorsed by APHIS.

In the regulatory text of that final rule, however, we did not specify that such export health certificates must be endorsed by APHIS, but rather that they must be endorsed by the competent veterinary authority of the United States.

This has led to confusion regarding whether we intended to allow agencies other than APHIS to endorse the certificates. We did not.

Accordingly, we are amending the regulations to specify that, if APHIS knows that an importing country requires an export health certificate endorsed by the competent veterinary authority of the United States for any animal other than livestock or for any animal semen, animal embryos, hatching eggs, other embryonated eggs, or gametes intended for export to that country, the animal or other commodity must have an export health certificate endorsed by APHIS in order to be eligible for export from the United States.

List of Subjects in 9 CFR Part 91

Animal diseases, Animal welfare, Exports, Livestock, Reporting and recordkeeping requirements, Transportation.

Accordingly, we are amending 9 CFR part 91 as follows:

PART 91—EXPORTATION OF LIVE ANIMALS, HATCHING EGGS OR OTHER EMBRYONATED EGGS, ANIMAL SEMEN, ANIMAL EMBRYOS, AND GAMETES FROM THE UNITED STATES

1. The authority citation for part 91 continues to read as follows:

Authority: 7 U.S.C. 8301-8317; 19 U.S.C. 1644a(c); 21 U.S.C. 136, 136a, and 618; 46 U.S.C. 3901 and 3902; 7 CFR 2.22, 2.80, and 371.4.

2. In § 91.3, paragraph (a)(2) is revised to read as follows:

§ 91.3 General requirements.

(a) * * *

(2) If APHIS knows that an importing country requires an export health certificate endorsed by the competent veterinary authority of the United States for any animal other than livestock or for any animal semen, animal embryos, hatching eggs, other embryonated eggs, or gametes intended for export to that country, the animal or other commodity must have an export health certificate endorsed by APHIS in order to be eligible for export from the United States.

* * * * *

Done in Washington, DC, this 21st day of October 2016.
Kevin Shea,
Administrator, Animal and Plant Health Inspection Service.

[FR Doc. 2016-25860 Filed 10-25-16; 8:45 am]

BILLING CODE 3410-34-P